DEPARTMENT OF TRANSPORTATION

Federal Motor Carrier Safety Administration

[Docket No. FMCSA-2001-9688]

Notice of Request To Renew the Approval of an Information Collection: OMB No. 2126-0001 (Driver's Record of Duty Status)

AGENCY: Federal Motor Carrier Safety Administration (FMCSA), DOT.

ACTION: Notice and request for comments.

SUMMARY: This notice announces that the FMCSA intends to request the Office of Management and Budget (OMB) to renew approval for the information collection described below. This information collection is necessary to ensure that motor carriers and commercial motor vehicle (CMV) drives comply with the maximum driving and duty time limitations prescribed in the Federal Motor Carrier Safety Regulations (FMCSR). This notice is required by the Paperwork Reduction Act.

DATES: Please submit comments by July 20, 2001.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comments is received, you must include a self-addressed, stamped postcard or you may print the acknowledgment page that appears after submitting comments electronically.

FOR FURTHER INFORMATION CONTACT: Ms. Angeli Sebastian, (202) 366-4001, Chief of Driver and Carrier Operations (MC-PSD), Federal Motor Carrier Safety Administration, U.S. Department of Transportation, 400 Seventh Street, SW., Washington, DC 20590. Office hours are from 7:30 a.m. to 4 p.m., e.t., Monday through Friday, except Federal holidays.

SUPPLEMENTARY INFORMATION: Title: Driver's Record of Duty Status.

OMB Approval Number: 2126-0001.

Background: The paper record of duty status (RODS) and automatic on-board recording device are the primary regulatory tools used by the FMCSA to determine motor carriers' and CMV drivers' compliance with the maximum driving and duty time limitations prescribed in the FMCSRs. These tools are also used by States that receive FMCSA Motor Carrier Safety Assistance Program (MCSAP) grants to determine regulatory compliance of CMV drivers during the safety inspections they perform. The information contained in the RODS determines whether a driver can drive a CMV on any given day based upon the driver's duty hours recorded over the previous 7 to 8 days. The RODS is an important tool to aid the FMCSA to help ensure the safety of the general public by reducing the number of tired drivers on the nation's highways.

Respondents: Motor carriers and approximately 6.4 million CMV interstate drivers subject to FMCRSs or compatible State regulations.

Frequency: Daily.

Estimated Total Annual Burden: 42,464,327 hours.

Public Comments Invited

We invite you to comment on any aspect of this information collection, including, but not limited to (1) whether the collection of information is necessary for the FMCSA to meet its goal of reducing truck crashes, including whether the information is useful to this goal; (2) the accuracy of the estimated burden; (3) ways to enhance the quality, usefulness and clarity of the information collected; and (4) ways to minimize the collection burden without reducing the quality of the information collected.

Electronic Access and Filing

You may submit or retrieve comments online through the Docket Management System (DMS) at http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site. You may also download an electronic copy of this document from the DOT Docket Management System on the Internet at http://dms.dot.gov/search.htm. Please include the docket number appearing in the heading of this document.

Authority: The Paperwork Reduction Act of 1995, 44 U.S.C. Chapter 35, as amended; and 49 CFR 1.73.

Issued on: May 15, 2001.
Brian M. McLaughlin,
Acting Deputy Administrator.

[FR Doc. 01-12619 Filed 5-18-01; 8:45 am]

BILLING CODE 4910-EX-P